DEPARTMENT OF COMMERCE

International Trade Administration

[A-570-914]

Light-Walled Rectangular Pipe and Tube From the People's Republic of China: Preliminary Results of the 2008-2009 Antidumping Duty Administrative Review

AGENCY: Import Administration, International Trade Administration, Department of Commerce.

SUMMARY: In response to a timely request from one importer, FitMAX Inc. (“FitMAX”), the Department of Commerce (the “Department”) is conducting the 2008-2009 administrative review of the antidumping duty order on light-walled rectangular pipe and tube (“LWR”) from the People's Republic of China (“PRC”). We have preliminarily determined that sales have been made below normal value (“NV”) by the exporter participating in the instant administrative review. If these preliminary results are adopted in our final results of review, we will instruct U.S. Customs and Border Protection (“CBP”) to assess antidumping duties on entries of subject merchandise during the period of review (“POR”) for which the importer-specific assessment rate is above de minimis.

Interested parties are invited to comment on these preliminary results. We will issue the final results no later than 120 days from the date of publication of this notice.

DATES: Effective Date: May 14, 2010.

FOR FURTHER INFORMATION CONTACT: Melissa Blackledge or Howard Smith, AD/CVD Operations, Office 4, Import Administration, International Trade Administration, U.S. Department of Commerce, 14th Street and Constitution Avenue, NW., Washington, DC 20230; telephone: (202) 482-3518 and (202) 482-5193, respectively.

Background

On June 24, 2008, the Department published its final determination of sales at less-than-fair-value in the antidumping duty investigation of LWR from the PRC. See Final Determination of Sales at Less Than Fair Value and Affirmative Determination of Critical Circumstances, in Part: Light-Walled Rectangular Pipe and Tube from the People's Republic of China, 73 FR 35652 (June 24, 2008). On August 5, 2008, the Department published its antidumping duty order on LWR from the PRC. See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008). On August 3, 2009, the Department published a notice of opportunity to request an administrative review of the above-referenced order. See Antidumping or Countervailing Duty Order, Finding, or Suspended Investigation; Opportunity To Request Administrative Review, 74 FR 38397 (August 3, 2009). Based on a timely request from FitMAX for an administrative review, the Department initiated an administrative review of the antidumping duty order on LWR from the PRC with respect to the Sun Group Inc. (the “Sun Group”), a producer/exporter of subject merchandise imported by FitMAX. See Initiation of Antidumping and Countervailing Duty Administrative Reviews and Request for Revocation in Part, 74 FR 48224 (September 22, 2009) (“Initiation Notice”).

On September 25, 2009, the Department issued an antidumping duty questionnaire to the Sun Group. The Sun Group submitted responses to the Department's questionnaire from October through December 2009. We issued supplemental questionnaires to, and received responses from, the Sun Group from November 2009 through April 2010. Petitioners ¹ submitted comments to the Department regarding the questionnaire and supplemental questionnaire responses of the Sun Group in November 2009.

¹ Petitioners are Atlas Tube, Bull Moose Tube Company and Searing Industries, Inc.

On January 13, 2010, the Department provided parties with an opportunity to submit publicly available information on surrogate countries and values for consideration in these preliminary results. On January 26, 2010, Petitioners submitted comments on surrogate country selection, and on March 22, 2010, and April 5, 2010, Petitioners submitted comments on surrogate values. The Sun Group submitted comments on surrogate values on March 19, 2010, and April 12, 2010.

Period of Review

The POR is January 20, 2008, through July 31, 2009.

Scope of Order

The merchandise that is the subject of the order is certain welded carbon-quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to the order is currently classified under the Harmonized Tariff Schedule of the United States (“HTSUS”) subheadings 7306.61.50.00 and 7306.61.70.60. While HTSUS subheadings are provided for convenience and Customs purposes, our written description of the scope of the order is dispositive.

Non-Market-Economy (“NME”) Treatment

The Department considers the PRC to be an NME country. In accordance with section 771(18)(C)(i) of the Tariff Act of 1930, as amended (the “Act”), any determination that a country is an NME country shall remain in effect until revoked by the administering authority. See also Preliminary Determination of Sales at Less Than Fair Value and Postponement of Final Determination: Coated Free Sheet Paper from the People's Republic of China, 72 FR 30758, 30760 (June 4, 2007), unchanged in Final Determination of Sales at Less Than Fair Value: Coated Free Sheet Paper from the People's Republic of China, 72 FR 60632 (October 25, 2007). The Department has not revoked the PRC's status as an NME country. None of the parties to this proceeding has contested such treatment. Therefore, in these preliminary results of review, we have treated the PRC as an NME country and applied our current NME methodology in accordance with section 773(c) of the Act.

Separate Rates

In the Initiation Notice, the Department notified parties of the application process by which exporters and producers may obtain separate-rate status in NME investigations. See Initiation Notice, 74 FR at 48224. The process requires exporters and producers to submit a separate-rate status application. See Policy Bulletin 05.1: Separate-Rates Practice and Application of Combination Rates in Antidumping Investigations involving Non-Market Economy Countries, (April 5, 2005) (“Policy Bulletin 05.1”) available at http://ia.ita.doc.gov.² However, the standard for eligibility for a separate rate (which is whether a firm can demonstrate an absence of both de jure and de facto governmental control over its export activities) has not changed.

² Policy Bulletin 05.1 states: “[w]hile continuing the practice of assigning separate rates only to exporters, all separate rates that the Department will now assign in its NME investigations will be specific to those producers that supplied the exporter during the period of investigation. Note, however, that one rate is calculated for the exporter and all of the producers which supplied subject merchandise to it during the period of investigation. This practice applied both to mandatory respondents receiving an individually calculated separate rate as well as the pool of non-investigated firms receiving the weighted-average of the individually calculated rates. This practice is referred to as the application of `combination rates' because such rates apply to specific combinations of exporters and one or more producers. The cash-deposit rate assigned to an exporter will apply only to merchandise both exported by the firm in question and produced by a firm that supplied the exporter during the period of investigation.” See Policy Bulletin 05.1 at 6 (emphasis in original).

In proceedings involving NME countries, the Department has a rebuttable presumption that all companies within the country are subject to government control and thus should be assessed a single antidumping duty rate. It is the Department's policy to assign all exporters of merchandise subject to investigation in an NME country this single rate unless an exporter can demonstrate that it is sufficiently independent so as to be entitled to a separate rate. Exporters can demonstrate this independence through the absence of both de jure and de facto governmental control over export activities. The Department analyzes each entity exporting the subject merchandise under a test set out in the Notice of Final Determination of Sales at Less Than Fair Value: Sparklers from the People's Republic of China, 56 FR 20588 (May 6, 1991) (“Sparklers”), as further developed in Notice of Final Determination of Sales at Less Than Fair Value: Silicon Carbide from the People's Republic of China, 59 FR 22585 (May 2, 1994) (“Silicon Carbide”).

A. Separate Rate Applicant

1. Wholly Chinese-Owned

The Sun Group stated that it is a wholly Chinese-owned company. Therefore, the Department must analyze whether this respondent can demonstrate the absence of both de jure and de facto governmental control over export activities.

a. Absence of De Jure Control

The Department considers the following de jure criteria in determining whether an individual company may be granted a separate rate: (1) An absence of restrictive stipulations associated with an individual exporter's business and export licenses; (2) any legislative enactments decentralizing control of companies; and (3) other formal measures by the government decentralizing control of companies. See Sparklers, 56 FR at 20589.

The evidence provided by the Sun Group supports a preliminary finding of de jure absence of governmental control based on the following: (1) There is an absence of restrictive stipulations associated with the exporter's business and export licenses; (2) there are applicable legislative enactments decentralizing control of the company; and (3) there are formal measures by the government decentralizing control of the company. See the Sun Group's Section A Response, dated October 27, 2009 (“SAR”), at 2-8.

b. Absence of De Facto Control

Typically the Department considers four factors in evaluating whether each respondent is subject to de facto governmental control of its export functions: (1) Whether the export prices are set by or are subject to the approval of a governmental agency; (2) whether the respondent has authority to negotiate and sign contracts and other agreements; (3) whether the respondent has autonomy from the government in making decisions regarding the selection of management; and (4) whether the respondent retains the proceeds of its export sales and makes independent decisions regarding disposition of profits or financing of losses. See Silicon Carbide, 59 FR at 22586-87; see also Notice of Final Determination of Sales at Less Than Fair Value: Furfuryl Alcohol From the People's Republic of China, 60 FR 22544, 22545 (May 8, 1995). The Department has determined that an analysis of de facto control is critical in determining whether respondents are, in fact, subject to a degree of governmental control which would preclude the Department from assigning separate rates.

We determine that the evidence on the record supports a preliminary finding of de facto absence of governmental control with respect to the Sun Group based on record statements and supporting documentation showing that the company: (1) Sets its own export prices independent of the government and without the approval of a government authority; (2) has the authority to negotiate and sign contracts and other agreements; (3) has autonomy from the government regarding the selection of management; and (4) retains the proceeds from its sales and makes independent decisions regarding disposition of profits or financing of losses. See SAR at 8-10.

The evidence placed on the record of this administrative review by the Sun Group demonstrates an absence of de jure and de facto government control with respect to the exporters' exports of the merchandise under review, in accordance with the criteria identified in Sparklers and Silicon Carbide. Therefore, we have preliminarily granted the Sun Group separate rate status.

Selection of a Surrogate Country

In antidumping proceedings involving NME countries, the Department, pursuant to section 773(c)(1) of the Act, will generally base NV on the value of the NME producer's factors of production (“FOP”). In accordance with section 773(c)(4) of the Act, in valuing the FOPs, the Department shall utilize, to the extent possible, the prices or costs of FOPs in one or more market-economy countries that are at a level of economic development comparable to that of the NME country and are significant producers of merchandise comparable to the subject merchandise.

In the instant review, the Department has determined that India, the Philippines, Indonesia, Thailand, Ukraine, and Peru are countries that are at a level of economic development comparable to that of the PRC. See Letter to All Interested Parties, from Howard Smith, Re: 2008-2009 Administrative Review of Light-Walled Rectangular Pipe and Tube from the People's Republic of China (PRC), dated January 13, 2010. Based on evidence placed on the record, we have determined that it is appropriate to use India as a surrogate country pursuant to section 773(c)(4) of the Act based on the following: (1) It is at a level of economic development comparable to the PRC pursuant to section 773(c)(4) of the Act; (2) it is a significant producer of comparable merchandise; and (3) we have reliable data from India that we can use to value the FOPs. See Petitioners' January 26, 2010, surrogate country comments; see also the Sun Group's March 19, 2010, and Petitioners' March 22, 2010, and April 5, 2010, surrogate value comments. Thus, to calculate NV, we are using Indian prices, when available and appropriate, to value the FOPs of the Sun Group, the mandatory respondent. We have obtained and relied upon publicly available information wherever possible. See “Memorandum To The File, from Melissa Blackledge, Re: Administrative Review of Light-Walled Rectangular Pipe and Tube from the People's Republic of China: Surrogate Values,” dated May 10, 2010 (“Surrogate Values Memo”).

Fair Value Comparisons

To determine whether the Sun Group's sales of subject merchandise to the United States were made at prices below NV, we compared the constructed export price (“CEP”) of the sales to NV, as described in the “United States Price” and “Normal Value” sections of this notice.

United States Price

In accordance with section 772(b) of the Act, we based the U.S. price for the Sun Group's sale on CEP because this sale was made by its U.S. affiliate, which purchased subject merchandise, produced and sold by the Sun Group through one affiliate, FitMAX. In accordance with section 772(c)(2)(A) of the Act, we calculated CEP by deducting, where applicable, the following expenses from the gross unit price charged to the first unaffiliated customer in the United States: Foreign inland freight, foreign brokerage and handling, international freight, U.S. brokerage and handling, and U.S. inland freight. Further, in accordance with section 772(d)(1) of the Act and 19 CFR 351.402(b), where appropriate, we deducted from the starting price the following selling expenses associated with economic activities occurring in the United States: Indirect selling expenses, credit, and inventory carrying costs. Because the Sun Group and FitMAX did not incur short-term U.S. dollar borrowings during the POR, we based their interest rate on the Federal Funds Interest Rate for the calculation of their U.S. credit expenses and inventory carrying costs incurred in the United States. As explained in Policy Bulletin 98.2, Imputed Credit Expenses and Interest Rates, February 23, 1998, available at http://ia.ita.doc.gov, if a respondent had no short-term debt in U.S. dollars during the POR, it is the Department's practice to “use the Federal Reserve's weighted-average data for commercial and industrial loans maturing between one month and one year from the time the loan is made” in order to calculate the U.S. short-term interest percentage rate. See, e.g., Notice of Final Results of Antidumping Duty Administrative Review: Steel Concrete Reinforcing Bars from Latvia, 71 FR 7016 (February 10, 2006), and accompanying Issues and Decision Memorandum at Comment 4. In addition, pursuant to section 772(d)(3) of the Act, we made an adjustment to the starting price for CEP profit. We based movement expenses on either surrogate values where the service was purchased from a PRC provider, and actual expenses where service was purchased from a market-economy provider in a market-economy currency. For details regarding our CEP calculations, and for a complete discussion of the calculation of the U.S. price for the Sun Group, see “Memorandum To The File, From Melissa Blackledge, Light-Walled Rectangular Pipe and Tube from the People's Republic of China—Preliminary Analysis Memorandum for the Sun Group Co., Ltd.,” dated May 10, 2010, at 5 (“Analysis Memo”).

Normal Value

Section 773(c)(1) of the Act provides that the Department shall determine NV using FOP methodology if the merchandise is exported from an NME country and the available information does not permit the calculation of NV using home-market prices, third-country prices, or constructed value under section 773(a) of the Act. When determining NV in an NME context, the Department uses an FOP methodology because the presence of government controls on various aspects of NMEs renders price comparisons and the calculation of production costs invalid under its normal methodologies. See Tapered Roller Bearings and Parts Thereof, Finished or Unfinished, From the People's Republic of China: Preliminary Results of Antidumping Duty Administrative Review and Notice of Intent to Rescind in Part, 70 FR 39744, 39754 (July 11, 2005), unchanged in Tapered Roller Bearings and Parts Thereof, Finished and Unfinished, from the People's Republic of China: Final Results of 2003-2004 Administrative Review and Partial Rescission of Review, 71 FR 2517, 2521 (January 17, 2006). Thus, we calculated NV by adding together the value of the FOPs, general expenses, profit, and packing costs.³ Specifically, we valued material, labor, energy, and packing by multiplying the amount of the factor consumed in producing subject merchandise by the average unit surrogate value of the factor. In addition, we added freight costs to the surrogate costs that we calculated for material inputs. We calculated freight costs by multiplying surrogate freight rates by the shorter of the reported distance from the domestic supplier to the factory that produced the subject merchandise or the distance from the nearest seaport to the factory that produced the subject merchandise, as appropriate. This adjustment is in accordance with the U.S. Court of Appeals for the Federal Circuit's decision in Sigma Corp. v. United States, 117 F.3d 1401, 1407-08 (Fed. Cir. 1997). We increased the calculated costs of the FOPs for surrogate general expenses and profit. See Analysis Memo at 4.

³ We based the values of the FOPs on surrogate values (see “Selected Surrogate Values” section below).

Selected Surrogate Values

In accordance with section 773(c) of the Act, we calculated NV based on FOP data reported by the respondent for the POR. To calculate NV, we multiplied the reported per-unit factor-consumption rates by publicly available surrogate values (except as discussed below).

In selecting the surrogate values, we considered the quality, specificity, and contemporaneity of the data. As appropriate, we adjusted input prices by including freight costs to make them delivered prices. We added to each Indian import surrogate value, a surrogate freight cost calculated from the shorter of the reported distance from the domestic supplier to the factory or the distance from the nearest seaport to the factory, where appropriate. See Sigma Corp.

For these preliminary results, in accordance with the Department's practice, we used data from the Indian Import Statistics in order to calculate surrogate values for most of the respondent's material inputs. In selecting the best available information for valuing FOPs in accordance with section 773(c)(1) of the Act, the Department's practice is to select, to the extent practicable, surrogate values which are non-export average values, most contemporaneous with the POR, product-specific, and tax-exclusive. See, e.g., Pure Magnesium from the People's Republic of China: Preliminary Results of 2007-2008 Antidumping Duty Administrative Review, 74 FR 27090 (June 8, 2009), unchanged in Pure Magnesium from the People's Republic of China: Final Results of Antidumping Duty Administrative Review, 74 FR 66089 (December 14, 2009). The record shows that the Indian import statistics represent import data that are contemporaneous with the POR, product-specific, and tax-exclusive.

In calculating surrogate values from import statistics, in accordance with the Department's practice, we disregarded statistics for imports from NME countries and countries deemed to maintain broadly available, non-industry-specific subsidies which may benefit all exporters to all export markets (i.e., Indonesia, South Korea, and Thailand). See Certain Frozen Fish Fillets from the Socialist Republic of Vietnam: Preliminary Results and Preliminary Partial Rescission of Antidumping Duty Administrative Review, 70 FR 54007, 54011 (September 13, 2005), unchanged in Certain Frozen Fish Fillets From the Socialist Republic of Vietnam: Final Results of the First Administrative Review, 71 FR 14170 (March 21, 2006); and China Nat'l Machinery Import & Export Corp. v. United States, 293 F. Supp. 2d 1334, 1336 (Ct. Int'l. Trade 2003), aff'd 104 Fed. Appx. 183 (Fed. Cir. 2004). Additionally, we excluded from our calculations imports that were labeled as originating from an unspecified country because we could not determine whether they were from an NME country.

We used the following surrogate values in our preliminary results of review (see Surrogate Values Memo for details). We valued raw and packing materials using February 2008 through July 2009 weighted-average Indian import values derived from the World Trade Atlas online (“WTA”). See http://www.gtis.com/wta.htm. The Indian import statistics that we obtained from the WTA were published by the Directorate General of Commercial Intelligence and Statistics of the Ministry of Commerce and Industry, Government of India, and are contemporaneous with the POR. See Surrogate Values Memo at 1.

We valued electricity using price data for small, medium, and large industries, as published by the Central Electricity Authority of the Government of India in its publication entitled “Electricity Tariff & Duty and Average Rates of Electricity Supply in India”, dated March 2008. These electricity rates represent actual country-wide, publicly available information on tax-exclusive electricity rates charged to industries in India. As the rates listed in this source became effective on a variety of different dates, we are not adjusting the average value for inflation. See Surrogate Values Memo at 3.

We valued water using the industrial water rates from the Maharashtra Province of India (“MPI”) for April, May, and June 2009. See http://www.midcindia.org/MIDCWebSite/WaterSupply. We averaged 378 industrial water rates within the MPI; 189 for the “inside industrial areas” usage category; and 189 for the “outside industrial areas” usage category to obtain a single water rate. These averages exclude industrial areas where either no data were reported or a “0” was reported. See Surrogate Values Memo at 4.

We valued truck freight using a per-unit average rate calculated from data on the following Web site: http://www.infobanc.com/logistics/logtruck.htm. The logistics section of this website contains inland freight truck rates between many large Indian cities. See Surrogate Values Memo at 5.

We valued brokerage and handling using a price list of export procedures necessary to export a standardized cargo of goods in India. The price list is compiled based on a survey case study of the procedural requirements for trading a standard shipment of goods by ocean transport in India that is published in Doing Business 2010: India, published by the World Bank. See Surrogate Values Memo at 5.

We valued international freight expenses using freight quotes from Maersk Sealand, a market-economy shipper. Specifically, we calculated a simple average of quotes for shipments from the PRC to the United States occurring during the POR. See Surrogate Values Memo at 5.

For direct labor, indirect labor, and packing labor, consistent with 19 CFR 351.408(c)(3), we valued labor using the PRC regression-based wage rate as reported on Import Administration's home page, Import Library, Expected Wages of Selected NME Countries, revised in December 2009, available at http://ia.ita.doc.gov/wages/index.html. Since this regression-based wage rate does not separate the labor rates into different skill levels or types of labor, we have applied the same wage rate to all skill levels and types of labor reported by the Sun Group. See Surrogate Values Memo at 3.

Lastly, we valued selling, general and administrative expenses, factory overhead costs, and profit using the contemporaneous 2007-2008 financial statements of Zenith Birla (India) Limited, an Indian producer of merchandise that is identical to subject merchandise. See Surrogate Values Memo at 6.

In accordance with 19 CFR 351.301(c)(3)(ii), interested parties may submit publicly available information with which to value FOPs in the final results of review within 20 days after the date of publication of the preliminary results of review.

Currency Conversion

We made currency conversions into U.S. dollars, in accordance with section 773A(a) of the Act, based on the exchange rates in effect on the dates of the U.S. sales, as certified by the Federal Reserve Bank. These exchange rates can be accessed at the Web site of Import Administration at http://ia.ita.doc.gov/exchange/index.html.

Preliminary Results of Review

We preliminarily determine that the following margins exist for the following respondents during the period January 20, 2008, through July 31, 2009:

Light-Walled Rectangular Pipe and Tube From the PRC
Company | Weighted- average margin (percent)
The Sun Group Inc | 219.50

PRC-wide rate | Margin (percent)
PRC-Wide Rate | 264.64

We will disclose the calculations used in our analysis to parties to these proceedings within five days of the date of publication of this notice in accordance with 19 CFR 351.224(b).

Case briefs from interested parties may be submitted not later than 30 days of the date of publication of this notice, pursuant to 19 CFR 351.309(c). Rebuttal briefs, limited to issues raised in the case briefs, will be due five days later, pursuant to 19 CFR 351.309(d). Parties who submit case or rebuttal briefs in this proceeding are requested to submit a list of authorities used and an executive summary of issues should accompany any briefs submitted to the Department. This summary should be limited to five pages total, including footnotes.

Any interested party may request a hearing within 30 days of publication of this notice. Interested parties who wish to request a hearing or to participate if one is requested, must submit a written request to the Assistant Secretary for Import Administration within 30 days of the date of publication of this notice. See 19 CFR 351.310(c). Requests should contain: (1) The party's name, address, and telephone number; (2) the number of participants; and (3) a list of issues to be discussed. Issues raised in the hearing will be limited to those raised in the briefs.

The Department will issue the final results of these reviews, including the results of its analysis of issues raised in any such written briefs or at the hearing, if held, not later than 120 days after the date of publication of this notice.

Assessment Rates

The Department shall determine, and CBP shall assess, antidumping duties on all appropriate entries. The Department will issue appropriate assessment instructions for the company subject to this review directly to CBP 15 days after publication of the final results of these reviews. For assessment purposes for the Sun Group, the Department calculated an importer-specific assessment rate for LWR from the PRC on a per-unit basis. Specifically, the Department divided the total dumping margins (calculated as the difference between normal value and export price) for the importer by the total quantity of subject merchandise sold to that importer during the POR to calculate a per-unit assessment amount. The Department will direct CBP to assess an importer-specific assessment rate based on the resulting per-unit (i.e., per-kilogram) rate by the weight in kilograms of the entry of the subject merchandise during the POR. However, the final results of this review shall be the basis for the assessment of antidumping duties on entries of merchandise covered by the final results of this review and for future deposits of estimated duties, where applicable.

Cash Deposit Requirements

The following cash deposit requirements will be effective upon publication of the final results of this review for all shipments of the subject merchandise entered, or withdrawn from warehouse, for consumption on or after the publication date: (1) For the exporter listed above, the cash deposit rate will be that established in the final results of this review (except, if the rate is zero or de minimis, no cash deposit will be required); (2) for previously investigated or reviewed PRC and non-PRC exporters not listed above that have separate rates, the cash deposit rate will continue to be the exporter-specific rate published for the most recently completed review; (3) for all non-PRC exporters of subject merchandise which have not received their own rate, the cash deposit rate will be the rate applicable to the PRC exporters that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i) of the Act.

Dated: May 10, 2010.
Ronald K. Lorentzen,
Deputy Assistant Secretary for Import Administration.

[FR Doc. 2010-11603 Filed 5-13-10; 8:45 am]

BILLING CODE 3510-DS-P